FEDERAL COMMUNICATIONS COMMISSION

[Report No. AUC-00-34-D (Auction No. 34); DA 00-1364]

Clarification of Licenses to be Auctioned for 800 MHz Specialized Mobile Radio (SMR) Service in the General Category Band (851-854 MHz)

AGENCY: Federal Communications Commission.

ACTION: Notice.

SUMMARY: This document clarifies for licenses to be auctioned in the General Category Band the channels that will be available for use by licensees of spectrum blocks within the Economic Areas (EAs) located near the Canadian and Mexican borders.

DATES: Auction No. 34 is scheduled for August 16, 2000.

FOR FURTHER INFORMATION CONTACT: Kathy Garland or Bob Reagle, Auction Operations at (717) 338-2801 or Terry Fishel, Commercial Wireless Division, at (717) 338-2602.

SUPPLEMENTARY INFORMATION: This is a summary of a public notice released June 21, 2000 (“Auction Public Notice”). The complete text of the Auction Public Notice is available for inspection and copying during normal business hours in the FCC Reference Center (Room CY-A257), 445 12th Street, SW, Washington, DC. It may also be purchased from the Commission's copy contractor, International Transcription Services, Inc., (ITS, Inc.) 1231 20th Street, NW, Washington, DC 20035, (202) 857-3800. It is also available on the Commission's website at http://www.fcc.gov/wtb/auctions.

1. The Wireless Telecommunications Bureau (“Bureau”) issued a Public Notice on May 17, 2000, that set forth the filing requirements, minimum opening bids, and other procedural matters to govern Auction No. 34. See Auction No. 34 Announcing Public Notice 65 FR 39388 (June 26, 2000). The Bureau issues this Auction Public Notice to clarify the General Category channels that will be available for use by licensees of spectrum blocks within the Economic Areas (EAs) located near the Canadian and Mexican borders.

2. The licenses available in this auction consist of six contiguous 25 channel blocks (1.25 MHz) in each of 172 EAs and 3 EA-like areas, covering the United States, possessions or territories in the Northern Mariana Islands and Guam, American Samoa, the United States Virgin Islands and Puerto Rico. These licenses are referenced in Attachment A of the Auction No. 34 Announcing Public Notice.

3. The following table contains the Block/Frequency Band Limits Cross-Reference List for the 800 SMR General Category Channels:

800 MHz SMR General Category Channels 851-854 MHz
License suffix | Channel no. | Frequencies (base & mobile)
D | 1 through 25 | 851.0125 through 851.6125 806.0125 through 806.6125
DD | 26 through 50 | 851.6375 through 852.2375 806.6375 through 807.2375
E | 51 through 75 | 852.2625 through 852.8625 807.2625 through 807.8625
EE | 76 through 100 | 852.8875 through 853.4875 807.8875 through 808.4875
F | 101 through 125 | 853.5125 through 854.1125 808.5125 through 809.1125
FF | 126 through 150 | 854.1375 through 854.7375 809.1375 through 809.7375

4. By this Auction Public Notice, the Bureau clarifies that the allocation of channels available in Spectrum Blocks D through FF are different in the U.S./Mexico and U.S./Canada border areas than noted in the prior table. The tables that follow indicate the channels assignable in the border areas. See Amendment of Part 90 of the Commission's Rules to Facilitate Future Development of SMR Systems in the 800 MHz Frequency Band, Memorandum Opinion and Order, 64 FR 71042 (December 20, 1999). Please note that the channels listed for the U.S./Mexico are offset 12.5 kHz lower in frequency than the same channel specified in § 90.613 of the Commission's rules.

United States-Mexico Border Area, SMR and General Categories
Spectrum m block | Auction 34 designation | Offset channel nos.
[General Category (12 Channels)]
D | D | 275,315
D1 | DD | 355,395
E | E | 276,316
E1 | EE | 356,396
F | F | 277,317
F1 | FF | 357,397

United States-Canada Border Area, SMR and General Categories
Spectrum m block | Auction 34 designation | Channel nos.
[Regions 1, 4, 5, 6]
General Category (5 Channels)
D | D | None
D1 | DD | 30
E | E | 60
E1 | EE | 90
F | F | 120
F1 | FF | 150
[Region 2]
General Category (5 Channels)
D | D | 18
D1 | DD | 36
E | E | 54,72
E1 | EE | 90
F | F | None
F1 | FF | None
[Region 3]
General Category (15 Channels)
D | D | 38,39,40
D1 | DD | 158,159
E | E | 78,79,80
E1 | EE | 160,198
F | F | 118,119,120
F1 | FF | 199,200
[Region 7, 8]
General Category (18 Channels)
D | D | 35,36,37
D1 | DD | 38,39,40
E | E | 75,76,77
E1 | EE | 78,79,80
F | F | 115,116,117
F1 | FF | 118,119,120

Federal Communications Commission.
Margaret Wiener,
Deputy Chief, Auctions and Industry Analysis Division, Wireless Telecommunications Bureau.

[FR Doc. 00-16899 Filed 7-3-00; 8:45 am]

BILLING CODE 6712-01-P